DEPARTMENT OF LABOR

Occupational Safety and Health Administration

[Docket No. ICR-1218-0126(2000)]

Acrylonitrile (AN) Standard (29 CFR 1910.1045); Extension of the Office of Management of Budget's (OMB) Approval of Information Collection (Paperwork) Requirements

AGENCY: Occupational Safety and Health Administration (OSHA); Labor.

ACTION: Notice of an opportunity for public comment.

SUMMARY: OSHA solicits comments concerning the extension of the information collection requirements contained in the Acrylonitrile Standard (the “AN” Standard) (29 CFR 1910.1045).

Request for Comment: The Agency has a particular interest in comments on the following issues:

• Whether the information collection requirements are necessary for the proper performance of the Agency's functions, including whether the information is useful;

• The accuracy of the Agency's estimate of the burden (time and costs) of the information-collection requirements, including the validity of the methodology and assumptions used;

• The quality, utility, and clarify of the information collected; and

• Ways to minimize the burden on employers who must comply; for example, by using automated or other technological information-collection and -transmission techniques.

DATES: Submit written comments on or before May 30, 2000.

ADDRESSES: Submit written comments to the Docket Office, Docket No. ICR-1218-0126(2000), Occupational Safety and Health Administration, U.S. Department of Labor, Room N2625, 200 Constitution Avenue, NW, Washington, DC 20210; telephone: (202) 693-2350. Commenters may transmit written comments of 10 pages or less in length by facsimile to (202) 693-1648.

FOR FURTHER INFORMATION CONTACT: Todd R. Owen, Directorate of Policy, Occupational Safety and Health Administration, U.S. Department of Labor, Room N-3641, 200 Constitution Avenue, NW, Washington, DC 20210; telephone: (202) 693-2444. A copy of the Agency's Information-Collection Request (ICR) supporting the need for the information collection requirements in the AN Standard is available for inspection and copying in the Docket Office, or you may request a mailed copy by telephoning Todd R. Owen at (202) 693-2444. For electronic copies of the ICR on the AN Standard, OSHA on the Internet at http://www.osha.gov.

SUPPLEMENTARY INFORMATION:

I. Background

The Department of Labor, as part of its continuing effort to reduce paperwork and respondent burden, conducts a preclearance consultation program to provide the general public and Federal agencies with an opportunity to comment on proposed and continuing information-collection requirements in accordance with the Paperwork Reduction Act of 1995 (PRA-95) (44 U.S.C. 3506(c)(2)(A)). This program ensures that information is in the desired format, reporting burden (time and costs) is minimal, collection instruments clearly understood, and OSHA's estimate of the information burden is correct. The Occupational Safety and Health Act of 1970 (the Act) authorizes information collection by employers as necessary or appropriate for enforcement of the Act or for developing information regarding the causes and prevention of occupational injuries, illnesses, and accidents (29 U.S.C. 657).

The information-collection requirements specified in the AN Standard protect employees from the adverse health effects that may result from their exposure to AN. The major information-collection requirements of the AN Standard include notifying employees of their AN exposures, implementing a written compliance program, providing examining physicians with specific information, ensuring that employees receive a copy of their medical-examination results, maintaining employees' exposure-monitoring and medical records for specific periods, and providing access to these records by OSHA, the National Institute for Occupational Safety and Health, the affected employees, and designated representatives.

II. Proposed Actions

OSHA proposes to reduce the existing burden hour estimate, and to extend OMB's approval, of the collection of information (paperwork) requirements contained in the AN Standard. The Agency is reducing its previous estimate, 6,857 hours, by 2,719 hours as a result of lowering the number of establishments affected by the paperwork requirements. OSHA will summarize the comments submitted in response to this notice, and will include this summary in the request to OMB to extend the approval of the information-collection requirements contained in the AN Standard.

Type of Review: Extension of currently approved information-collection requirements.

Title: Acrylonitrile Standards (29 CFR 1910.1045).

OMB Number: 1218-0126.

Affected Public: Business or other for-profit; Federal government; state, local or tribal government.

Number of Respondents: 23.

Frequency: On occasion.

Total Responses: 18,838.

Average Time per Response: Varies from 5 minutes to provide information to the examining physician to 2 hours for employers to provide OSHA area offices with information about AN emergencies.

Estimated Total Burden Hours: 4,138.

Estimated Cost (Operations and Maintenance): $189,835.

III. Authority and Signature

Charles N. Jeffress, Assistant Secretary of Labor for Occupational Safety and Health, directed the preparation of this notice. The authority for this notice is the Paperwork Reduction Act of 1995 (44 U.S.C. 3506) and Secretary of Labor's Order No. 6-96 (62 FR 111).

Signed at Washington, DC, on March 24, 2000.
Charles N. Jeffress,
Assistant Secretary of Labor.

[FR Doc. 00-7785 Filed 3-30-00; 8:45 am]

BILLING CODE 4510-26-M